Title 3—

The President

Presidential Determination No. 2007-11 of January 26, 2007

Transfer of Funds Under Section 610 of the Foreign Assistance Act of 1961

Memorandum for the Secretary of State

Pursuant to the authority vested in me by the Constitution and laws of the United States, including section 610 of the Foreign Assistance Act of 1961, as amended (22 U.S.C. 2360) (the “Act”), I hereby determine it necessary for the purposes of that Act that up to $86.362 million in fiscal year 2006 funds made available under chapter 4 of part II of the Act be transferred to, and consolidated with, funds made available under chapter 8 of part I of the Act, and such funds are hereby so transferred and consolidated.

You are authorized and directed to report this determination to the Congress and to publish it in the Federal Register.

THE WHITE HOUSE,

Washington, January 26, 2007.

[FR Doc. 07-935

Filed 2-27-07; 8:45 am]

Billing code 4710-10-P